INTERNATIONAL TRADE COMMISSION

[Investigation No. 332-446]

Agriculture: Probable Economic Effects on the U.S. Economy of Eliminating or Reducing U.S. Tariffs on Certain Products From FTAA Countries and WTO Members

AGENCY: United States International Trade Commission.

ACTION: Institution of investigation and invitation for written submissions.

EFFECTIVE DATE: August 30, 2002.

SUMMARY: Following receipt of a request on August 16, 2002, from the United States Trade Representative (USTR), the Commission instituted investigation No. 332-446, Agriculture: Probable Economic Effects on the U.S. Economy of Eliminating or Reducing U.S. Tariffs on Certain Products from FTAA Countries and WTO Members, under section 332(g) of the Tariff Act of 1930 (19 U.S.C. 1332(g)).

Background

As requested by USTR, the Commission will prepare assessments of the probable economic effects on the economy as a whole of (1) eliminating U.S. tariffs on certain agricultural products from 33 countries within the Free Trade Area of the Americas (FTAA), and (2) eliminating and reducing by 50 percent U.S. tariffs on certain agricultural products from World Trade Organization (WTO) member.¹ The list of the products attached to the USTR's letter and covered in this investigation is available electronically from EDIS-ON-LINE, or from the Office of the Secretary at 202-205-2000. The Commission plans to submit its report by November 15, 2002. USTR indicated that portions of the report will be classified as “Confidential.”

¹ For the purposes of this study, the 33 FTAA countries include Antigua and Barbuda, Argentina, Bahamas, Barbados, Belize, Bolivia, Brazil, Canada, Chile, Colombia, Costa Rica, Dominica, Dominican Republic, Ecuador, El Salvador, Grenada, Guatemala, Guyana, Haiti, Honduras, Jamaica, Mexico, Nicaragua, Panama, Paraguay, Peru, St. Kitts and Nevis, St. Lucia, St. Vincent and the Grenadines, Suriname, Trinidad and Tobago, Uruguay, and Venezuela. The 143 WTO members countries (excluding the United States) will be aggregated into a single area. Although the Bahamas, China, and Taiwan were not WTO members during this study's 1997-2001 analysis period, they are included in the analysis of the WTO member countries.

FOR FURTHER INFORMATION CONTACT: Industry-specific information may be obtained from Ronald Babula, Project Leader (202-205-3331 or babula@usitc.gov) or Stephen Burket, Chief, Agricultural Crops and Specialty Products Branch (202-205-3318 or burket@usitc.gov), Office of Industries, U.S. International Trade Commission, Washington, DC 20436. For information on the legal aspects of this investigation, contact William Gearhart of the Office of the General Counsel (202-205-3091 or wgearhart@usitc.gov). Hearing-impaired individuals are advised that information on this matter can be obtained by contacting the TDD terminal on (202) 205-1810. General information concerning the Commission may also be obtained by accessing its Internet server (http://www.usitc.gov). The public record for this investigation may be viewed on the Commission's electronic docket (EDIS-ON-LINE) at http://dockets.usitc.gov/eol/public/.

Written Submissions

The Commission does not plan to hold a public hearing in connection with this investigation. However, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available in the Office of the Secretary to the Commission for inspection by interested parties. The Commission may include such confidential business information in the report it sends to USTR. To be assured of consideration by the Commission, written statements relating to the Commission's report should be submitted to the Commission at the earliest practical date and should be received no later than the close of business on September 19, 2002. All submissions should be addressed to the Secretary, United States International Trade Commission, 500 E Street SW., Washington, DC 20436. The Commission's rules do not authorize filing submissions with the Secretary by facsimile or electronic means.

Persons with mobility impairments who will need special assistance in gaining access to the Commission should contact of the Office of the Secretary at 202-205-2000.

List of Subjects

FTAA, WTO, tariffs, and trade.

By order of the Commission.
Issued: August 30, 2002.
Marilyn R. Abbott,
Secretary to the Commission.

[FR Doc. 02-22704 Filed 9-5-02; 8:45 am]

BILLING CODE 7020-02-P